DEPARTMENT OF COMMERCE

Bureau of the Census

Census Scientific Advisory Committee Charter Renewal

AGENCY: Bureau of the Census, Department of Commerce.

ACTION: Notice of Advisory Committee charter renewal.

SUMMARY: The Bureau of the Census (U.S. Census Bureau) hereby gives notice that the Secretary of the U.S. Department of Commerce has determined that the charter renewal of the Census Scientific Advisory Committee (CSAC) is necessary and in the public interest. The renewed charter can be found on the Census Advisory Committee website at the following URL link: https://www2.census.gov/cac/sac/sac-charter.pdf.

FOR FURTHER INFORMATION CONTACT: Tara Dunlop Jackson, Chief, Advisory Committee Branch, U.S. Census Bureau, 4600 Silver Hill Road, Room 8H177, Washington, DC 20233, 301-763-5222, tara.dunlop.jackson@census.gov.

SUPPLEMENTARY INFORMATION: The CSAC advises the Census Bureau's Director on the full range of Census Bureau programs and activities. The CSAC provides scientific and technical expertise from the following disciplines: Demography, economics, geography, psychology, statistics, survey methodology, social and behavioral sciences, information technology and computing, marketing, and other fields of expertise, as appropriate, to address Census Bureau program needs and objectives.

The CSAC will function solely as an advisory body and in compliance with provisions of the Federal Advisory Committee Act. Pursuant to subsection 9(c) of the Federal Advisory Committee Act, 5 U.S.C., App., as amended, copies of this charter were furnished to the Library of Congress and to the following committees of Congress:

• Senate Committee on Appropriations;

• Senate Committee on Commerce, Science and Transportation;

• Senate Committee on Finance;

• Senate Committee on Homeland Security and Governmental Affairs;

• House Committee on Appropriations; and,

• House Committee on Oversight and Government Reform.

Dated: April 26, 2018.
Ron S. Jarmin,
Associate Director for Economic Programs, Performing the Non-Exclusive Functions and Duties of the Director, Bureau of the Census.

[FR Doc. 2018-09282 Filed 5-1-18; 8:45 am]

BILLING CODE 3510-07-P